DEPARTMENT OF COMMERCE

Patent and Trademark Office

Agency Information Collection Activities; Submission to the Office of Management and Budget (OMB) for Review and Approval; Comment Request; Global Intellectual Property Academy (GIPA) Surveys

The United States Patent and Trademark Office (USPTO) will submit the following information collection request to the Office of Management and Budget (OMB) for review and clearance in accordance with the Paperwork Reduction Act of 1995, on or after the date of publication of this notice. The USPTO invites comments on this information collection renewal, which helps the USPTO assess the impact of its information collection requirements and minimize the public's reporting burden. Public comments were previously requested via the Federal Register on July 26, 2023 during a 60-day comment period. This notice allows for an additional 30 days for public comment.

Agency: United States Patent and Trademark Office, Department of Commerce.

Title: Global Intellectual Property Academy (GIPA) Surveys.

OMB Control Number: 0651-0065.

Needs and Uses: The Global Intellectual Property Academy (GIPA) was established in 2006 to offer training programs on enforcement of intellectual property rights, patents, trademarks, and copyrights. GIPA's training programs are designed to meet the specific needs of foreign government officials concerning various intellectual property topics. By attending these programs, foreign government officials learn about global intellectual property rights protection and enforcement and discuss strategies to handle the protection and enforcement issues in their respective countries. The GIPA training programs are an important instrument that USPTO uses to achieve its objectives of halting intellectual property theft and advancing intellectual property right policies.

The surveys in this information collection are conducted in an effort to provide additional details on “who” participants are, what kind of positions they hold, length of time working in an intellectual property area, type of organizations where respondents work, type of intellectual property functions, and the effect of the GIPA program on their professional work and their country's intellectual property efforts. This information is being collected to improve the services that the USPTO provides in its missions of serving the international IP community. The data captured will also be used to help meet organizational performance and accountability goals through the following legislative mandates and performance guidance:

• Government Performance and Results Act of 1993 (GPRA); ¹

¹ https://www.congress.gov/103/statute/STATUTE-107/STATUTE-107-Pg285.pdf.

• Government Performance and Results Modernization Act of 2010 (GPRMA); ²

² https://www.congress.gov/111/plaws/publ352/PLAW-111publ352.pdf.

• President's Management Agenda (PMA); ³ and

³ https://www.performance.gov/pma/.

• Foundations for Evidence Based Policy Making Act of 2018.⁴

⁴ https://www.congress.gov/115/plaws/publ435/PLAW-115publ435.pdf.

Evaluation and measurement efforts provide methodologically rigorous data activity and analyses in place of more subjective, ad hoc, non-standardized anecdotal material.

These voluntary surveys support various business goals developed by the USPTO to fulfill customer service and performance goals, to assist the USPTO in strategic planning for future initiatives, to verify existing service standards, and to establish new ones. The USPTO also uses these surveys to implement Executive Order 12862 of September 11, 1993, Setting Customer Service Standards, published in the Federal Register on September 14, 1993 (58 FR 48257).⁵ The USPTO does not intend to collect any personally identifying data from the participants and intends to maintain the contact information for the participants in a separate file for the quantitative data.

⁵ https://tile.loc.gov/storage-services/service/ll/fedreg/fr058/fr058176/fr058176.pdf.

Form Numbers: None.

Type of Review: Extension of a currently approved information collection.

Affected Public: Individuals or households.

Respondent's Obligation: Voluntary.

Frequency: On occasion.

Estimated Number of Annual Respondents: 750 respondents.

Estimated Number of Annual Responses: 750 responses.

Estimated Time per Response: The USPTO estimates that it will take the public approximately 15 minutes (0.25 hours) to complete. This includes the time to gather the necessary information, create the document, and submit the completed request to the USPTO.

Estimated Total Annual Respondent Burden Hours: 188 hours.

Estimated Total Annual Respondent Non-Hourly Cost Burden: $0.

This information collection request may be viewed at www.reginfo.gov. Follow the instructions to view Department of Commerce, USPTO information collections currently under review by OMB.

Written comments and recommendations for this information collection should be submitted within 30 days of the publication of this notice on the following website, www.reginfo.gov/public/do/PRAMain. Find this particular information collection by selecting “Currently under 30-day Review—Open for Public Comments” or by using the search function and entering either the title of the information collection of the OMB Control Number, 0651-0065.

Further information can be obtained by:

• Email: InformationCollection@uspto.gov. Include “0651-0065 information request” in the subject line of the message.

• Mail: Justin Isaac, Office of the Chief Administrative Officer, United States Patent and Trademark Office, P.O. Box 1450, Alexandria, VA 22313-1450.

Justin Isaac,
Information Collections Officer, Office of the Chief Administrative Officer, United States Patent and Trademark Office.

[FR Doc. 2023-21538 Filed 9-28-23; 8:45 am]

BILLING CODE 3510-16-P